FEDERAL COMMUNICATIONS COMMISSION

Public Information Collection(s) Approved by Office of Management and Budget

AGENCY: Federal Communications Commission.

ACTION: Notice.

SUMMARY: The Federal Communications Commission has received approval from the Office of Management and Budget (OMB) for the public information collection(s): OMB Control Numbers: 3060-0027, Application for Construction Permit for Commercial Broadcast Station, FCC Form 301; OMB 3060-0031, Application for Consent to Transfer Control of Entity Holding Broadcast Station Construction Permit or License, FCC Form 314; and OMB 3060-0032, Application for Consent to Assignment of Broadcast Station Construction Permit or License, FCC Form 315.

DATES: Effective date for these public information collections is October 8, 2004.

FOR FURTHER INFORMATION CONTACT: Nina Shafran, Media Bureau, (202) 418-2700.

SUPPLEMENTARY INFORMATION: The Federal Communications Commission has received OMB approval for OMB Control Numbers: 3060-0027, 3060-0031, and 3060-0032. The effective date for these public information collections is October 8, 2004. The expiration date is March 31, 2005.

Pursuant to the Paperwork Reduction Act of 1995, Pub. L. 104-13, an agency may not conduct or sponsor a collection of information unless it displays a currently valid control number. Notwithstanding any other provisions of law, no person shall be subject to any penalty for failing to comply with a collection of information subject to the Paperwork Reduction Act (PRA) that does not display a valid control number. Questions concerning these revised information collections should be directed to Leslie F. Smith, Federal Communications Commission, (202) 418-0217 or via the Internet at Leslie.Smith@fcc.gov.

Federal Communications Commission.
Marlene H. Dortch,
Secretary.

[FR Doc. 04-22883 Filed 10-7-04; 8:45 am]

BILLING CODE 6712-01-P